DEPARTMENT OF ENERGY

2009 Department of Energy Regional Nuclear Suppliers Outreach Event

AGENCY: Department of Energy.

ACTION: Notice of open meeting.

SUMMARY: The Department of Energy (DOE) Office of Environmental Management (EM), and the National Nuclear Security Administration (NNSA), will co-sponsor a Regional Nuclear Suppliers Outreach Event for suppliers interested in providing service and products in the nuclear sector.

DATES: March 17-18, 2009, 8 a.m.-5 p.m.

ADDRESSES: Augusta Marriott Hotel & Suites, Two Tenth Street, Augusta, Georgia 30901.

FOR FURTHER INFORMATION CONTACT: Jennifer Shafer, Event Planner, Performance Results Corporation, 20201 Century Boulevard, Suite 285, Germantown, Maryland 20874. Phone (301) 540-7100, Fax (301) 540-7550 or e-mail: jshafer@prc8a.com.

SUPPLEMENTARY INFORMATION: Purpose of the meeting: This Regional Nuclear Suppliers Outreach Event is an excellent opportunity for companies interested in working in the DOE nuclear sector to gain insights into the current and future markets for products and services at the Portsmouth/Paducah Project Office, Oak Ridge Office, and Savannah River Sites, and requirements to enter or to continue to work on nuclear projects in the DOE-complex. In addition, participants will have the opportunity to interact directly with senior executives, project managers, and procurement personnel working for DOE and NNSA and its prime contractors; and, gain insight into Nuclear Quality Assurance program requirements applicable to both the DOE and commercial nuclear industry sectors.

The purpose of this forum is two fold. First, it will help ensure that all EM and NNSA sites have an adequate number of qualified nuclear and non-nuclear suppliers for future projects and programs. Second, it will provide information for suppliers regarding the needs of DOE projects and programs for their products and services in the years ahead.

Agenda on March 17, 2009

8 a.m. Welcome and Logistics

8:15 a.m. Keynote Addresses

• TBD.

• Perspectives on NNSA Nuclear Project Needs.

• Perspectives on DOE Energy Park Initiative, Property for Community Reuse Organization.

• Perspectives on U.S. Business Competitiveness in Nuclear Energy.

10 a.m. Break

10:30 a.m. Market Outlooks for Nuclear Suppliers

• Commercial Nuclear Industry Outlook: New Nuclear Power Plants Applications for the Eastern U.S.

• DOE/EM Outlook: Regional Major Construction and Operation Projects.

• DOE/NNSA Outlook: Regional Major Construction and Operation Projects.

12 p.m. Lunch

1:30 p.m. NQA-1 Based Procurement Challenges and Major Issues

• Perspectives on EM Nuclear Project Needs.

• Panel Session #1: Nuclear Services (Design, Engineering, Construction).

• Panel Session #2: Nuclear Equipment (Pumps, Valves, Tanks, Pipes, Etc.).

5:30 p.m. Reception

Agenda on March 18, 2009

8 a.m. NQA-1 Based Procurement Challenges and Major Issues

• Panel Session #3: Savannah River Procurement Process and Liability and Indemnification Issues.

9 a.m. NQA Requirements and Impact on Suppliers

• What Is a Quality Assurance Program and How Does a Company Establish One?

9:30 a.m. DOE Site and Industry Procurement Interactions

• EM/NNSA Site Tables: Federal and Contractor procurement representatives from Savannah River, Oak Ridge, and Portsmouth and Paducah will be available to discuss specific needs and issues.

• NQA-1 Table: ASME representative will be available to discuss Quality Assurance Program requirements and program implementation.

12 p.m. Lunch

1:30 p.m. 4-Hour Training Session for Nuclear and Non-Nuclear Suppliers

• What Is the NQA-1 Process?

1:30 p.m. SRS Tours (Salt Waste Processing Facility, MOX, Defense Waste Processing Facility)

Registration Information: There is no event fee. Participants may register at http://www.prc8a.com/doernsoe, or by contacting Jennifer Shafer at the address or telephone number listed above.

Issued at Washington, DC, on February 9, 2009.
Dae Y. Chung,
Deputy Assistant Secretary for Safety Management and Operations, Environmental Management.

[FR Doc. E9-3134 Filed 2-12-09; 8:45 am]

BILLING CODE 6450-01-P